DEPARTMENT OF COMMERCE

National Oceanic and Atmospheric Administration

50 CFR Part 648

[Docket No. 190312234-9412-01]

RTID 0648-XX036

Fisheries of the Northeastern United States; Summer Flounder Fishery; Quota Transfer From VA to NY

AGENCY: National Marine Fisheries Service (NMFS), National Oceanic and Atmospheric Administration (NOAA), Commerce.

ACTION: Notification of quota transfer.

SUMMARY: NMFS announces that the Commonwealth of Virginia is transferring a portion of its 2019 commercial summer flounder quota to the State of New York. This retroactive adjustment to the 2019 fishing year quota is necessary to comply with the Summer Flounder, Scup, and Black Sea Bass Fishery Management Plan quota transfer provisions. This announcement informs the public of the retroactively revised 2019 commercial quotas for Virginia and New York.

DATES: Effective January 17, 2020, until December 31, 2020.

FOR FURTHER INFORMATION CONTACT: Laura Hansen, Fishery Management Specialist, (978) 281-9225.

SUPPLEMENTARY INFORMATION: Regulations governing the summer flounder fishery are found in 50 CFR 648.100 through 648.110. These regulations require annual specification of a commercial quota that is apportioned among the coastal states from Maine through North Carolina. The process to set the annual commercial quota and the percent allocated to each state is described in § 648.102 and final 2019 allocations were published on May 17, 2019 (84 FR 22392).

The final rule implementing Amendment 5 to the Summer Flounder Fishery Management Plan (FMP), as published in the Federal Register on December 17, 1993 (58 FR 65936), provided a mechanism for transferring summer flounder commercial quota from one state to another. Two or more states, under mutual agreement and with the concurrence of the NMFS Greater Atlantic Regional Administrator, can transfer or combine summer flounder commercial quota under § 648.102(c)(2). The Regional Administrator is required to consider three criteria in the evaluation of requests for quota transfers or combinations: The transfer or combinations would not preclude the overall annual quota from being fully harvested; the transfer addresses an unforeseen variation or contingency in the fishery; and, the transfer is consistent with the objectives of the FMP and the Magnuson-Stevens Act. The Regional Administrator has determined these three criteria have been met for the transfer approved in this notice.

Virginia is transferring 8,787 lb (3,986 kg) of 2019 summer flounder commercial quota to New York. This transfer was requested to repay 2019 landings made by a Virginia-permitted vessel in New York under a safe harbor agreement. The transfer will retroactively apply to the state's 2019 summer flounder quota. Based on the revised 2019 Summer Flounder, Scup, and Black Sea Bass Specifications, the summer flounder quotas for 2019 are now: Virginia, 2,397,129 lb (1,087,319 kg); and, New York, 848,656 lb (384,943 kg). Given the time of the request, we were unable to process the transfer before the end of the 2019 fishing year that ended on December 31, 2019. The revised quotas will be used to calculate overages for the 2019 fishing year and adjust, as needed, 2020 summer flounder quotas.

Authority: 16 U.S.C. 1801 et seq.

Dated: January 16, 2020.
Karyl K. Brewster-Geisz,
Acting Director, Office of Sustainable Fisheries, National Marine Fisheries Service.

[FR Doc. 2020-01083 Filed 1-17-20; 4:15 pm]

BILLING CODE 3510-22-P